DEPARTMENT OF HOMELAND SECURITY

U.S. Customs and Border Protection

[Docket No. USCBP-2012-0027]

Advisory Committee on Commercial Operations of Customs and Border Protection (COAC)

AGENCY: U.S. Customs and Border Protection, Department of Homeland Security (DHS).

ACTION: Committee Management; Notice of Federal Advisory Committee Meeting.

SUMMARY: The Advisory Committee on Commercial Operations of Customs and Border Protection (COAC) will meet on August 15, 2012, in Seattle, WA. The meeting will be open to the public.

DATES: COAC will meet on Wednesday, August 15, 2012 from 1:00 p.m. to 5:30 p.m. PST. Please note that the meeting may close early if the committee has completed its business.

Registration: If you plan on attending, please register either online at https://apps.cbp.gov/te_registration/index.asp?w=80 or by email to tradeevents@dhs.gov, or by fax to 202-325-4290 by close-of-business on August 12, 2012.

If you have completed an online on-site registration and wish to cancel your registration, you may do so at https://apps.cbp.gov/te_registration/cancel.asp?w=80. Please feel free to share this information with interested members of your organizations or associations.

ADDRESSES: The meeting will be held at Jackson Federal Building, 915 2nd Avenue, Seattle, WA 98174, in the South Auditorium—4th Floor. All visitors report to main lobby of the building. All visitors to the Jackson Federal Building must show a state-issued ID or Passport to proceed through the security checkpoint to be admitted to the building.

For information on facilities or services for individuals with disabilities or to request special assistance at the meeting, contact Ms. Wanda Tate, Office of Trade Relations, U.S. Customs and Border Protection at 202-344-1661 as soon as possible.

To facilitate public participation, we are inviting public comment on the issues to be considered by the committee as listed in the “Agenda” section below.

Comments must be submitted in writing no later than August 8, 2012, and must be identified by USCBP-2012-0027 and may be submitted by one of the following methods:

• Federal eRulemaking Portal: http://www.regulations.gov. Follow the instructions for submitting comments.

• Email: Tradeevents@dhs.gov. Include the docket number in the subject line of the message.

• Fax: 202-325-4290

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket to read background documents or comments received by the COAC, go to http://www.regulations.gov.

There will be two public comment periods held during the meeting on August 15, 2012. Speakers are requested to limit their comments to two (2) minutes or less to facilitate greater participation. Contact the individual listed below to register as a speaker. Please note that the public comment period for speakers may end before the time indicated on the schedule that is posted on the CBP web page at the time of the meeting.

FOR FURTHER INFORMATION CONTACT: Ms. Wanda Tate, Office of Trade Relations, U.S. Customs and Border Protection, 1300 Pennsylvania Avenue NW., Room 3.5A, Washington, DC 20229; telephone 202-344-1440; facsimile 202-325-4290.

SUPPLEMENTARY INFORMATION: Notice of this meeting is given under the Federal Advisory Committee Act, 5 U.S.C. App. (Pub. L. 92-463). The COAC provides advice to the Secretary of Homeland Security, the Secretary of the Treasury, and the Commissioner of U.S. Customs and Border Protection (CBP) on matters pertaining to the commercial operations of CBP and related functions within DHS or the Department of the Treasury.

Agenda

The COAC will hear from the following subcommittees on the topics listed below and then will review, deliberate, and formulate recommendations on how to proceed on those topics:

• The work of ACE Strategic Communications Working Group and how CBP should proceed in communicating with the trade community as the agency shifts from the Automated Commercial System (ACS) when ACE becomes fully functional.

• The work of the Trade Facilitation Subcommittee: Recommendations and resolutions on CBP's Trade Transformation initiatives, report of findings from the COAC Industry Survey regarding the expected benefits of the Centers of Excellence and Expertise and recommendations on next steps based on Survey results, and conclusions from the Instruments of International Trade (IITs) Residue Work Group on its study of the various concerns regarding establishing a test on the manifesting and entry of ITTs containing residue with no commercial value.

Prior to the COAC taking action on any of these topics of the above-mentioned subcommittees, members of the public will have an opportunity to provide oral or written comments.

The COAC will also receive an update and discuss the following initiatives and subcommittee topics that were discussed at its May 22, 2012 meeting:

• The National Strategy for Global Supply Chain Security as it relates to an effort to solicit, consolidate, and provide to DHS sector and stakeholder input on implementation of the National Strategy.

• The Air Cargo Security Subcommittee work on the Air Cargo Advance Screening (ACAS) pilot, providing feedback on international outreach efforts and Input on a list of Frequently Asked Questions (FAQs).

• The Bond Subcommittee work on proposed modifications to the CBP Form 5106 (Importer Identification Input Record); input on single transaction bonds (STBs) centralization; liquidated damages/mitigation guidelines and the use of STBs when additional security is merited.

• The Intellectual Property Rights Enforcement Subcommittee work on providing CBP guidance on new tools to be used in the port of entry to help identify counterfeit products, the distribution chain management and serialization pilot projects, and modifications to the CBP recordation database of federally registered trademarks, trade names, and copyrights.

• The Anti-Dumping/Countervailing Duties Subcommittee: Updates and observations from the trade community regarding CBP's recent implementation of policy regarding use of single transaction bonds (STBs) as an enforcement tool, update on CBP's efforts to work with various industries on obtaining trade intelligence and subcommittee feedback on CBP's Draft 5 year Anti-Dumping/Countervailing Duties Enforcement Strategy.

• The Land Border Security Subcommittee: Updates and observations on the Customs—Trade Partnership Against Terrorism (C-TPAT) Program Internet survey and the National Strategy for Global Supply Chain Security to include CBP Trusted Trader programs and Beyond the Border initiatives.

• The One U.S. Government at the Border Subcommittee: Updates on discussions regarding Trusted Trader Partnership Programs.

• The work of the Role of the Broker Subcommittee: Receive subcommittee feedback on CBP's efforts to update 19 CFR Part 111 (Broker Regulations).

• The formation of an Export subcommittee; review of subcommittee scope and goals.

Dated: July 26, 2012.
Maria Luisa O'Connell,
Senior Advisor for Trade, Office of Trade Relations.

[FR Doc. 2012-18631 Filed 7-30-12; 8:45 am]

BILLING CODE 9111-14-P